DEPARTMENT OF ENERGY

Biomass Research and Development Technical Advisory Committee

AGENCY: Office of Energy Efficiency and Renewable Energy, Department of Energy.

ACTION: Notice of open meeting: cancelled.

SUMMARY: On March 2, 2020, the Department of Energy published a notice of open meeting, announcing meetings on March 24 and March 25, 2020, of the Biomass Research and Development Technical Advisory Committee, in Arlington, VA. This document makes a correction to that notice.

FOR FURTHER INFORMATION CONTACT: Dr. Ian Rowe, Designated Federal Officer, Office of Energy Efficiency and Renewable Energy, 1000 Independence Avenue SW, Washington, DC 20585; Phone: (202) 586-7220; email: Ian.Rowe@ee.doe.gov.

Corrections

In the Federal Register of March 2, 2020, in FR Doc. 2020-04206, on pages 12279, please make the following correction:

In that notice under DATES, the meeting has been cancelled.

Reason for Correction: The cancellation is due to travel concerns associated with the COVID-19 outbreak.

Signed in Washington, DC, on March 11, 2020.
LaTanya Butler,
Deputy Committee Management Officer.

[FR Doc. 2020-05338 Filed 3-13-20; 8:45 am]

BILLING CODE 6450-01-P